ENVIRONMENTAL PROTECTION AGENCY

[FRL-7409-4]

Prestige Chemical Company Superfund Site; Notice of Proposed Settlement

AGENCY: Environmental Protection Agency.

ACTION: Notice of proposed administrative order on consent.

SUMMARY: The Environmental Protection Agency is proposing to enter into an administrative order on consent pursuant to Section 122(g) of the Comprehensive Environmental Response, Compensation, and Liability Act of 1980 (CERCLA), as amended, regarding the Prestige Chemical Company Superfund Site located in Senoia, Coweta County, Georgia, with the following parties: Brett, Inc.; Clayton Collision Center, Inc.; Heng's, Inc.; M & G Auto Enterprises, Inc.; Perdue's Paint and Body Shop, Inc.; Stone Mountain Body Shop, Inc.; Tony Infinger, Inc., and Wade Industries, Inc. The settlement is designed to resolve fully each settling de minimis party's liability at the Site through a covenant not to sue under Sections 106 and 107 of CERCLA, 42 U.S.C. 9606 and 9607, and provides contribution protection. EPA will consider public comments on the proposed settlement for thirty (30) days. EPA may withdraw from or modify the proposed settlement should such comments disclose facts or considerations which indicate the proposed settlement is inappropriate, improper, or inadequate. Copies of the proposed settlement are available from: Ms. Paula Batchelor, U.S. EPA, Region 4, Sam Nunn Atlanta Federal Center, Waste Management Division, CERCLA Enforcement Section, 61 Forsyth Street, SW., Atlanta, Georgia 30303, (404) 562-8887.

Written comments may be submitted to Ms. Batchelor within thirty (30) calendar days of the date of this publication.

Dated: October 25, 2002.
Anita L. Davis,
Acting Chief, CERCLA Program Services Branch, Waste Management Division.

[FR Doc. 02-29176 Filed 11-15-02; 8:45 am]

BILLING CODE 6560-50-P